DEPARTMENT OF ENERGY

Federal Energy Regulatory Commission

[Docket No. QF08-459-000]

Farm Fresh; Notice of Filing of Notice of Self-Certification of Qualifying Status of a Cogeneration Facility

April 24, 2008.

Take notice that on March 31, 2008, Farm Fresh, 1832 Kempsville Road, Suite 101, Virginia Beach, Virginia 23464 filed with the Federal Energy Regulatory Commission (Commission) a notice of self-certification of a facility as a qualifying cogeneration facility pursuant to 18 CFR 292.207(a) of the Commission's regulations.

The qualifying facility consisting of 600 kW diesel engine generator set. The generator operates on #2 fuel oil. The generator will be located on a concrete pad outside of the facility. A 2500 A service entrance rated ATS will be placed on the building between the utility transformer and the building's existing service entrance switchgear. The facility is located at 2800 Raleigh Road, NE, Suite B, Wilson NC 27896.

This qualifying interconnects with Wilson Energy's electric distribution system. The facility will provide standby power and occasionally supplementary power to Farm Fresh.

A notice of self-certification does not institute a proceeding regarding qualifying facility status; a notice of self-certification provides notice that the entity making the filing has determined the Facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E8-9793 Filed 5-2-08; 8:45 am]

BILLING CODE 6717-01-P